DEPARTMENT OF THE TREASURY

United States Mint

Notification of Citizens Coinage Advisory Committee June 14, 2022, Public Meeting

ACTION: Notice of meeting.

Pursuant to United States Code, Title 31, section 5135(b)(8)(C), the United States Mint announces the Citizens Coinage Advisory Committee (CCAC) public meeting scheduled for June 14, 2022.

Date: June 14, 2022.

Time: 8:30 a.m. to 3:30 p.m. (EDT).

Location: 8th Floor Conference Room; United States Mint; 801 9th Street NW; Washington, DC 20220.

Subject: Review and discussion of candidate designs for 2024 Native American $1 Coin; review and discussion of candidate designs for 2024 American Innovation $1 Coins honoring innovations in Illinois and Alabama; review and discussion of candidate designs for the Congressional Gold Medals awarded to the United States Capitol Police and those who protected the U.S. Capitol on January 6, 2021; and discussion of recommendations for the CCAC 2022 Annual Report.

Interested members of the public may dial in to listen to the meeting at (888) 330-1716; Access Code: 1137147.

Interested persons should call the CCAC HOTLINE at (202) 354-7502 for the latest update on meeting time and access information.

The CCAC advises the Secretary of the Treasury on any theme or design proposals relating to circulating coinage, bullion coinage, Congressional Gold Medals, and national and other medals; advises the Secretary of the Treasury with regard to the events, persons, or places to be commemorated by the issuance of commemorative coins in each of the five calendar years succeeding the year in which a commemorative coin designation is made; and makes recommendations with respect to the mintage level for any commemorative coin recommended.

For members of the public interested in listening in to the provided call number, this is a reminder that the public attendance is for listening purposes only. Any member of the public interested in submitting matters for the CCAC's consideration is invited to submit them by email to info@ccac.gov.

For Accommodation Request: If you need an accommodation to listen to the CCAC meeting, please contact the Diversity Management and Civil Rights Office by June 9, 2022, at 202-354-7260 or 1-888-646-8369 (TYY).

FOR FURTHER INFORMATION CONTACT: Jennifer Warren, United States Mint Liaison to the CCAC; 801 9th Street NW; Washington, DC 20220; or call 202-354-7208.

(Authority: 31 U.S.C. 5135(b)(8)(C))

Eric Anderson,
Executive Secretary, United States Mint.

[FR Doc. 2022-11655 Filed 5-31-22; 8:45 am]

BILLING CODE 4810-37-P